INTERNATIONAL TRADE COMMISSION

[Investigation No. 337-TA-447]

Certain Aerospace Rivets and Products Containing Same; Notice of a Commission Determination not to Review an Initial Determination Terminating the Investigation on the Basis of a Consent Order; Issuance of Consent Order

AGENCY: U.S. International Trade Commission.

ACTION: Notice.

SUMMARY: Notice is hereby given that the U.S. International Trade Commission has determined not to review the initial determination (“ID”) of the presiding administrative law judge (“ALJ”) granting the joint motion of complainant Allfast Fastening Systems, Inc. (“Allfast”) and respondent Ateliers De La Haute Garonne Ets Auriol Et Cie., S.A. (“AHG”) to terminate the above-captioned investigation on the basis of a consent order.

FOR FURTHER INFORMATION CONTACT: Michael K. Haldenstein, Esq., Office of the General Counsel, U.S. International Trade Commission, telephone (202) 205-3041. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS-ON-LINE) at http://dockets.usitc.gov/eol/public.

SUPPLEMENTARY INFORMATION: On January 25, 2001, the Commission instituted this investigation based on a complaint filed by Allfast alleging violations of section 337 of the Tariff Act of 1930 in the importation into the United States, the sale for importation, and the sale within the United States after importation of certain aerospace rivets and products containing same by reason of infringement of common law trademarks “BRFR” and “BRFZ” dilution of the “BRFR” and “BRFZ” trademarks, infringement of claims 1-6 of U.S. Letters Patent 5,580,202, and unfair competition by means of false designation of origin and false description. The complaint further alleges that there exists in the United States an industry as required by subsections (a)(1)(A) and (a)(2) of section 337. 66 FR 7782 (January 25, 2001). AHG was the only respondent.

On August 31, 2001, complainant Allfast and respondent AHG filed a joint motion to terminate the investigation on the basis of a consent order stipulation and proposed consent order. The Commission investigative attorney supported the motion.

On October 15, 2001, the ALJ issued an ID (Order No. 6) terminating the investigation based on the joint stipulation and proposed consent order. No party petitioned for review of the ID pursuant to 19 CFR 210.43(a), and the Commission found no basis for ordering a review on its own initiative pursuant to 19 CFR 210.44. The ID thus became the determination of the Commission pursuant to 19 CFR 210.42(h)(3).

This action is taken under the authority of section 337 of the Tariff Act of 1930, as amended, 19 U.S.C. 1337, and Commission rule 210.42, 19 CFR 210.42.

Issued: November 7, 2001.
By order of the Commission.
Donna R. Koehnke,
Secretary.

[FR Doc. 01-28430 Filed 11-13-01; 8:45 am]

BILLING CODE 7020-02-P